DEPARTMENT OF COMMERCE

International Trade Administration

[A-570-010]

Certain Crystalline Silicon Photovoltaic Products From the People's Republic of China: Rescission of Antidumping Duty Administrative Review

AGENCY: Enforcement and Compliance, International Trade Administration, Department of Commerce.

SUMMARY: The Department of Commerce (the Department) is rescinding its administrative review of the antidumping duty order on certain crystalline silicon photovoltaic products from the People's Republic of China (PRC) covering the period February 1, 2016, through January 31, 2017.

DATES: Applicable August 17, 2017.

FOR FURTHER INFORMATION CONTACT: Aleksandras Nakutis, AD/CVD Operations, Office IV, Enforcement & Compliance, International Trade Administration, Department of Commerce, 1401 Constitution Avenue NW., Washington, DC 20230; telephone: (202) 482-3147.

SUPPLEMENTARY INFORMATION:

Background

On February 8, 2017, the Department published in the Federal Register a notice of opportunity to request an administrative review of the antidumping duty order on certain crystalline silicon photovoltaic products from the PRC.¹ The Department received a timely request from Shenzhen Topray Solar Co., Ltd. (Topray Solar) and SolarWorld Americas, Inc. (the petitioner), in accordance with section 751(a) of the Tariff Act of 1930, as amended (the Act), and 19 CFR 351.213(b), to conduct an administrative review of this antidumping duty order.² On March 24, 2017, Topray Solar timely withdrew its request for an administrative review.³

¹ See Antidumping or Countervailing Duty Order, Finding, or Suspend Investigation; Opportunity To Request Administrative Review, 82 FR 9709 (February 8, 2017).

² See Letter from Topray Solar, regarding “Crystalline Silicon Photovoltaic Products from the People's Republic of China Request for Administrative Review,” dated February 27, 2017; see also Letter from the petitioner, regarding “Certain Crystalline Silicon Photovoltaic Products from the People's Republic of China: Request for Administrative Review,” dated February 28, 2017.

³ See Letter from Topray Solar, regarding “Crystalline Silicon Photovoltaic Products form the People's Republic of China Withdrawal of Request for Administrative Review,” dated March 24, 2017.

On April 10, 2017, the Department published in the Federal Register a notice of initiation ⁴ of an administrative review with respect to 27 companies. Because Topray Solar timely withdrew its request for an administrative review before the Department published its initiation notice, the Department did not initiate an administrative review with respect to Topray Solar. On May 11, 2017, the petitioner timely withdrew its request for an administrative review of all 27 companies for which it had requested a review.⁵

⁴ See Initiation of Antidumping and Countervailing Duty Administrative Reviews, 82 FR 17188 (April 10, 2017).

⁵ See Letter from the petitioner, regarding “Certain Crystalline Silicon Photovoltaic Products from the People's Republic of China: Withdrawal of Administrative Review Request,” dated May 11, 2017.

Rescission of Administrative Review

Pursuant to 19 CFR 351.213(d)(1), the Department will rescind an administrative review, in whole or in part, if the parties that requested a review withdraw the request within 90 days of the date of publication of the notice of initiation of the requested review. Topray Solar and the petitioner withdrew their requests for review by the 90-day deadline, and no other parties requested an administrative review of this order. Therefore, we are rescinding the administrative review of the antidumping duty order on certain crystalline silicon photovoltaic products from the PRC covering the period February 1, 2016 to January 31, 2017.

Assessment

The Department will instruct U.S. Customs and Border Protection (CBP) to assess antidumping duties on all appropriate entries. Antidumping duties shall be assessed at an amount equal to the cash deposit of estimated antidumping duties required at the time of entry, or withdrawal from warehouse, for consumption, in accordance with 19 CFR 351.212(c)(1)(i). The Department intends to issue appropriate assessment instructions directly to CBP 15 days after the date of publication of this notice in the Federal Register.

Notification to Importers

This notice serves as the only reminder to importers of their responsibility, under 19 CFR 351.402(f)(2), to file a certificate regarding the reimbursement of antidumping duties prior to liquidation of the relevant entries during this review period. Failure to comply with this requirement may result in the presumption that reimbursement of antidumping duties occurred and the subsequent assessment of double antidumping duties.

Notification Regarding Administrative Protective Orders

This notice serves as the only reminder to parties subject to administrative protective order (APO) of their responsibility concerning the disposition of proprietary information disclosed under APO in accordance with 19 CFR 351.305(a)(3). Timely written notification of the return or destruction of APO materials or conversion to judicial protective order is hereby requested. Failure to comply with the regulations and the terms of an APO is a sanctionable violation.

This notice is published in accordance with section 777(i)(1) of the Act, and 19 CFR 351.213(d)(4).

Dated: August 9, 2017.
James Maeder,
Senior Director performing the duties of Deputy Assistant Secretary for Antidumping and Countervailing Duty Operations.

[FR Doc. 2017-17361 Filed 8-16-17; 8:45 a.m.]

BILLING CODE 3510-DS-P